DEPARTMENT OF LABOR

Employment and Training Administration

[TA-W-37,459]

Rohm and Haas Company, Philadelphia, Pennsylvania; Notice of Revised Determination on Remand

The United States Court of International Trade (USCIT) remanded to the Secretary of Labor for further investigation of the negative determination in Former Employees of Rohm and Haas v. U.S. Secretary of Labor (Court No. 00-07-00333).

The Department's initial denial of Trade Adjustment Assistance (TAA) for the workers producing ion exchange resins at Rohm and Haas Company, Philadelphia, Pennsylvania, was based on the finding that criterion (1) of the group eligibility requirements of Section 222 of the Trade Act of 1974, as amended, was not met. The decision was signed on April 18, 2000 and published in the Federal Register on May 11, 2000 (65 FR 30443).

On voluntary remand, the Department determined that workers of Rohm and Haas Company, Philadelphia, Pennsylvania, producing ion exchange resins were threatened with employment declines. Therefore, criterion (1) of the group eligibility requirements of Section 222 of the Trade Act of 1974, as amended, was met. Also on voluntary remand, it was determined that criterion (2) of the group eligibility requirements of Section 222 of the Trade Act of 1974, as amended, was met. However, criterion (3) of the group eligibility requirements of Section 222 of the Trade Act of 1974, as amended, was not met. Imports did not contribute importantly to worker separations at the subject firm.

On remand, the Department obtained new information from the company which they did not provide during the initial investigation or during voluntary remand.

New data recently supplied by the company shows that the company increased their imports of ion exchange resins (IER's) during the relevant period of the investigation. The data supplied by the company on remand also indicates that the workers were not separately identifiable by product.

On May 8, 2002, workers of Rohm and Haas Company, Philadelphia were certified (TA-W-41,312) eligible to apply for Trade Adjustment Assistance. That certification covers workers from March 27, 2001 through May 8, 2004.

Conclusion

After careful review of the additional facts obtained on remand, I conclude that there were increased imports of articles like or directly competitive with those produced by the subject firm that contributed importantly to the worker separations and sales or production declines at the subject facility. In accordance with the provisions of the Trade Act, I make the following certification:

All workers of Rohm and Haas Company, Philadelphia, Pennsylvania who became totally or partially separated from employment on or after March 3, 1999, through March 26, 2001, are eligible to apply for adjustment assistance under Section 223 of the Trade Act of 1974.

Signed at Washington, DC, this 21st day of April 2003.
Elliott S. Kushner,
Certifying Officer, Division of Trade Adjustment Assistance.

[FR Doc. 03-10739 Filed 4-30-03; 8:45 am]

BILLING CODE 4510-30-P